DEPARTMENT OF LABOR

Occupational Safety and Health Administration

Addendum to the Memorandum of Understanding With the Department of Energy (August 28, 1992); Oak Ridge, Tennessee Properties

AGENCY: Occupational Safety and Health Administration (OSHA), Labor.

ACTION: Notice.

SUMMARY: This is a notice of an addendum to the 1992 interagency Memorandum of Understanding (MOU) between the U.S. Department of Labor (DOL), Occupational Safety and Health Administration (OSHA) and the U.S. Department of Energy (DOE). The 1992 and 2000 MOUs between the agencies establish specific interagency procedures for the transfer of occupational safety and health coverage for privatized facilities and operations from DOE to OSHA and State agencies operating under State Plans approved by OSHA.

DATES: The effective date of the Addendum to the Memorandum of Understanding is December 22, 2025.

FOR FURTHER INFORMATION CONTACT:

Press inquiries: Mr. Frank Meilinger, Director, OSHA Office of Communications; telephone: (202) 693-1999; email: meilinger.francis2@dol.gov.

General information: Ms. Lana Morrison, Director, OSHA Office of Federal Agency Programs; telephone: (202) 693-2100; email: ofap@dol.gov.

Copies of this Federal Register document: Electronic copies of this Federal Register document are available at http://www.regulations.gov. This document, along with news releases and other relevant information, are also available on the OSHA web page at http://www.osha.gov.

SUPPLEMENTARY INFORMATION:

I. Background

DOE and OSHA have entered into two MOUs to address both current and former DOE government-owned or leased, contractor-operated (GOCO) facilities. The first MOU, entered into on August 10, 1992, delineates regulatory authority over the occupational safety and health of contractor employees at DOE GOCO facilities by recognizing that DOE exercises statutory authority under section 161(f) of the Atomic Energy Act of 1954, as amended (42 U.S.C. 2201(f)), relating to the occupational safety and health of private-sector employees at these facilities.

Section 4(b)(1) of the Occupational Safety and Health Act of 1970 (OSH Act) (29 U.S.C. 653(b)(1)) exempts from OSHA authority working conditions with respect to which other federal agencies have exercised statutory authority to prescribe or enforce standards or regulations affecting occupational safety and health. The 1992 MOU acknowledges DOE's extensive program for the regulation of contractor health and safety, which requires contractor compliance with all OSHA standards along with additional DOE-prescribed requirements. The MOU sets forth an agreement that the provisions of the OSH Act do not apply to GOCO sites for which DOE has exercised authority to regulate occupational safety and health under the Atomic Energy Act.

As a result of DOE's policy emphasis on privatization activities, OSHA and DOE entered into a second MOU on July 25, 2000, to establish interagency procedures addressing regulatory authority for occupational safety and health at specified privatized facilities and operations on sites formerly controlled by DOE. The July 25, 2000, MOU covers facilities and operations on lands no longer controlled by DOE, which are not conducting activities for, or on behalf of, DOE; and where there is no likelihood that any employee exposure to radiation from DOE sources would be 25 millirems per year (mrem/yr) or more.

II. Notice of Transfer

Consistent with the 2000 MOU, between March 5, 2024 and May 20 2025, DOE provided four separate notices of a transfer in ownership of four parcels of land at the East Tennessee Technology Park (ETTP) in Oak Ridge, Tennessee to a private sector entity, for the purpose of confirming occupational safety and health regulatory authority by OSHA or, as appropriate Tennessee OSHA (TOSHA), over employees at that location. Other transfers of facilities and properties at the ETTP to TOSHA authority under this MOU were announced by Federal Register notices 74 FR 120 (January 2, 2009); 74 FR 39977 (August 10, 2009); 76 FR 80408 (December 23, 2011); 79 FR 29456 (May 22, 2014); 83 FR 45978 (September 11, 2018); and 85 FR 41627 (July 10, 2020).

The parcels of land at the ETTP in Oak Ridge, Tennessee are: (1) the former Powerhouse Area Tract [ID 11954], (2) the former K-1037 (ED-21) [ID 12892], (3) the K-732 Switchyard area (ED-20D) [ID 12797], and (4) the former K-27 and K-29 (ED-22) [ID 13136]. The former Powerhouse Area tract and the former K-1037 (ED-21) tract were transferred to the Heritage Center, LLC, a subsidiary of the Community Reuse Organization of East Tennessee. The former K-732 Switchyard area (ED-20D) tract was transferred to the City of Oak Ridge, Tennessee, and the former K-27 and K-29 (ED-22) parcel was transferred to the Industrial Development Board of the City of Oak Ridge. The parcels of land contain a total of approximately 710.81 acres.

OSHA's Regional Office in Birmingham, Alabama, working with the OSHA Nashville Area Office and TOSHA, provided notification regarding the transfers of occupational safety and health coverage for these sites to TOSHA. TOSHA confirmed that it has authority over the occupational safety and health of private sector and State and local government sector employers and employees performing work at each of the four transferred parcels of land at the ETTP in Oak Ridge, Tennessee. In a letter from OSHA to DOE dated September 8, 2025, OSHA stated that TOSHA is satisfied with DOE's assurances with respect to all four land parcels that (1) there is no likelihood that any employee at facilities in the vicinity of the land parcels will be exposed to radiation levels that will equal or exceed 25 mrem/yr, and (2) transfer of authority to TOSHA is free from regulatory gaps and does not diminish the safety and health protection of the employees. Accordingly, this Federal Register publication provides notice that TOSHA assumes and maintains occupational safety and health regulatory authority over private sector and State and local government sector employers and employees performing work at the abovementioned land tracts at the ETTP.

Authority and Signature

David Keeling, Assistant Secretary of Labor for Occupational Safety and Health, authorized the preparation of this notice. This Federal Register notice provides public notice and serves as an addendum to the 1992 OSHA/DOE MOU. Accordingly, the agency is issuing this notice pursuant to section 8(g)(2) and section 18 of the Occupational Safety and Health Act of 1970 (29 U.S.C. 657(g)(2) and 29 U.S.C. 667), 29 CFR parts 102, 1953, and 1955, and Secretary of Labor's Order No. 07-2025 (90 FR 2787).

Signed at Washington, DC, on December 12, 2025.
David Keeling,
Assistant Secretary of Labor for Occupational Safety and Health.

[FR Doc. 2025-23554 Filed 12-19-25; 8:45 am]

BILLING CODE 4510-26-P